NUCLEAR REGULATORY COMMISSION

[NRC-2011-0272]

Knowledge and Abilities Catalog for Nuclear Power Plant Operators: Westinghouse AP1000 Pressurized Water Reactors

AGENCY: Nuclear Regulatory Commission.

ACTION: NUREG; issuance.

SUMMARY: The U.S. Nuclear Regulatory Commission (NRC) is issuing NUREG-2103, “Knowledge and Abilities Catalog for Nuclear Power Plant Operators: Westinghouse AP1000 Pressurized Water Reactors.”

DATES: NUREG-2103 is effective on January 22, 2021.

ADDRESSES: Please refer to Docket ID NRC-2011-0272 when contacting the NRC about the availability of information regarding this document. You may obtain publicly available information related to this document using any of the following methods:

• Federal Rulemaking website: Go to https://www.regulations.gov and search for Docket ID NRC-2011-0272. Address questions about Docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. NUREG-2103 is available in ADAMS under Accession No. ML20357A103. This document is also available on the NRC's public website at https://www.nrc.gov/reading-rm/doc-collections/nuregs/.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

The NRC's NUREGs are not copyrighted, and NRC approval is not required to reproduce them.

FOR FURTHER INFORMATION CONTACT: Lauren Nist, Office of Nuclear Reactor Regulation; U.S. Nuclear Regulatory Commission, Washington DC 20555-0001; telephone: 301-415-6043, email: Lauren.Nist@nrc.gov.

SUPPLEMENTARY INFORMATION:

I. Discussion

NUREG-2103 provides the basis for development of content valid examinations used for licensing operators at Westinghouse AP1000 pressurized water reactors under the Commission's regulations contained in part 55 of title 10 of the Code of Federal Regulations (10 CFR), “Operator Licenses.” The examinations developed using NUREG-2103 along with NUREG-1021, “Operator Licensing Examination Standards for Power Reactors,” will sample the topics listed in 10 CFR part 55.

II. Additional Information

Draft NUREG-2103 was published in the Federal Register for public comment on November 29, 2011 (76 FR 73720). The comment period closed on December 31, 2016. The NRC staff's evaluation and resolution of the public comments are documented in ADAMS under Accession No. ML18240A235. Following issuance of the draft NUREG-2103 for public comment, additional operating procedures were developed for the AP1000, which resulted in the NRC staff adding related content to the KA catalog.

III. Congressional Review Act

This NUREG is a rule as defined in the Congressional Review Act (5 U.S.C. 801-808). However, the Office of Management and Budget has not found this NUREG to be a major rule as defined in the Congressional Review Act.

Dated: January 15, 2021.
For the Nuclear Regulatory Commission.
Christian B. Cowdrey,
Chief, Operator Licensing and Human Performance Branch, Division of Reactor Oversight, Office of Nuclear Reactor Regulation.

[FR Doc. 2021-01406 Filed 1-21-21; 8:45 am]

BILLING CODE 7590-01-P